DEPARTMENT OF DEFENSE

Office of the Secretary

[Docket ID DoD-2013-OS-0042]

Privacy Act of 1974; System of Records

AGENCY: United States Marine Corps, DoD.

ACTION: Notice to delete twenty-three Systems of Records.

SUMMARY: The U.S. Marine Corps is deleting twenty-three systems of records notices from its existing inventory of record systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Sally Hughes, Headquarters, U.S. Marine Corps, FOIA/PA Section (ARSF), 3000 Marine Corps Pentagon, Washington, DC 20380-1775 or by telephone at (703) 614-4008.

SUPPLEMENTARY INFORMATION: The Office of the Secretary of Defense systems of records notices subject to the Privacy Act of 1974 (5 U.S.C. 552a), as amended, have been published in the Federal Register and are available from the address in FOR FURTHER INFORMATION CONTACT.

The U.S. Marine Corps proposes to delete twenty-three systems of records notices from its inventory of record systems subject to the Privacy Act of 1974 (5 U.S.C. 552a), as amended. The proposed deletion is not within the purview of subsection (r) of the Privacy Act of 1974 (5 U.S.C. 552a), as amended, which requires the submission of a new or altered system report.

Dated: February 28, 2013.
Aaron Siegel,
Alternate OSD Federal Register Liaison Officer, Department of Defense.

Deletions:

MHD00001, Biographical Files (February 22, 1993, 58 FR 10630).

Reason:

Records are covered by NM 05724-1 Fleet Hometown News System (FHNS) Records. All records have been scanned and relocated to system.

Therefore, MHD00001, Biographical Files can be deleted.

MHD00006, Register/Lineal Lists (February 22, 1993, 58 FR 10630).

Reason: Records are covered by M01070-6, Marine Corps Official Military Personnel Files. All files have been scanned and relocated to system.

Therefore, MHD00006, Register/Lineal Lists can be deleted.

MIL00015, Housing Referral Services Records System (February 22, 1993, 58 FR 10630).

Reason: Records are covered by NM11101-1, DON Family and Bachelor Housing Program. All records that have met their retention have been deleted. All others have been incorporated into the new system.

Therefore, MIL00015, Housing Referral Services Records System can be deleted.

MIL00016, Depot Maintenance Management Subsystem (DMMS) (February 22, 1993, 58 FR 10630).

Reason: Records are covered by NM0742-1, Time and Attendance Feeder Records. All records that have met their retention have been deleted. All others have been incorporated into the new system.

Therefore, MIL00016, Depot Maintenance Management Subsystem (DMMS) can be deleted.

MIL00017, Transportation Data Financial Management System (TDFMS) (February 22, 1993, 58 FR 10630).

Reason: Records are covered by F024 AF USTRANSCOM D DOD, Defense Transportation System Records. All records that have met their retention have been deleted. All others have been incorporated into the new system.

Therefore, MIL00017, Transportation Data Financial Management System (TDFMS) can be deleted.

MJA00010, Unit Punishment Book (August 3, 1993, 58 FR 41254).

Reason: Records are covered by two existing system; M01040-3 Marine Corps Manpower Management Information System Records, and M01070-6, Marine Corps Official Military Personnel Files. All records that have met their retention have been deleted. All others have been incorporated into the new systems.

Therefore, MJA00010, Unit Punishment Book can be deleted.

MMC00004, Adjutant Services Section Discharge Working Files (August 3, 1993, 58 FR 41254).

Reason: Records are covered by two system; M01040-3 Marine Corps Manpower Management Information System Records, and M01070-6, Marine Corps Official Military Personnel Files. All records that have met their retention have been deleted. All others have been incorporated into the new systems.

Therefore, MMC00004, Adjutant Services Section Discharge Working Files can be deleted.

MMC00008, Message Release/Pickup Authorization File (October 22, 1999, 64 FR 57071).

Reason: Records are covered by M06320-1 Marine Corps Total Information Management Records. All records that have met their retention have been deleted. All others have been incorporated into the new system.

Therefore, MMC00008, Message Release/Pickup authorization File can be deleted.

MMC00009, Narrative Biographical Data with Photos (August 3, 1993, 58 FR 41254).

Reason: Records are covered by M01070-6, Marine Corps Official Military Personnel Files. All files have been scanned and relocated to system.

Therefore, MMC00009, Narrative Biographical Data with Photos can be deleted.

MMN00005, Marine Corps Education Program (October 22, 1999, 64 FR 57071).

Reason: Records are covered by three existing systems; M01040-3, Marine Corps Manpower Management Information System Records, NM01560-2 Department of Defense Voluntary Education System, and NM01500-2 Department of the Navy Education and Training Records. All records that have met their retention have been deleted. All others have been incorporated into the new system.

Therefore, MMN00005, Marine Corps Education Program can be deleted.

MMN00010, Personnel Services Working Files (February 22, 1993, 58 FR 10630).

Reason: Records are covered by two existing systems; M01070-6, Marine Corps Official Military Personnel Files, and M01133-3, Marine Corps Recruiting Information Support System. All records that have met their retention have been deleted. All others have been incorporated into the new system.

Therefore, MMN00010, Personnel Services Working Files can be deleted.

MMN00011, Source Data Automated Fitness Report System (February 22, 1993, 58 FR 10630).

Reason: Records are covered by an existing system, M01070-6, Marine Corps Official Military Personnel Files. All files have been scanned and relocated to system.

Therefore, MMN00011, Source Data Automated Fitness Report System can be deleted.

MMN00013, Personnel Management Working Files (February 22, 1993, 58 FR 10630).

Reason: Records are covered by four existing systems; M01133-3, Marine Corps Recruiting Information Support System, M01040-3 Marine Corps Manpower Management Information System Records, M01070-6, Marine Corps Official Military Personnel Files, and M06320-1 Marine Corps Total Information Management Records. All records that have met their retention have been deleted. All others have been incorporated into the new system.

Therefore, MMN00013, Personnel Management Working Files can be deleted.

MMN00027, Marine Corps Military Personnel Records Access Files (February 22, 1993, 58 FR 10630).

Reason: Records are accessed via Marine Corps Total Force System (MCTFS) which is covered under M01040-3 Marine Corps Manpower Management Information System Records, M01070-6, Marine Corps Official Military Personnel Files, and M06320-1 Marine Corps Total Information Management Records. All records that have met their retention have been deleted. All others have been incorporated into the new systems.

Therefore, MMN00027, Marine Corps Military Personnel Records Access Files can be deleted.

MMN00034, Personnel Procurement Working Files (August 17, 1999, 64 FR 44698).

Reason: Records are covered by four existing systems; M01133-3, Marine Corps Recruiting Information Support System, M01040-3 Marine Corps Manpower Management Information System Records, M01070-6, Marine Corps Official Military Personnel Files, and M06320-1 Marine Corps Total Information Management Records. All records that have met their retention have been deleted. All others have been incorporated into the new systems.

Therefore, MMN00034, Personnel Procurement Working Files can be deleted.

MMN00035, Truth Teller/Static Listings (February 22, 1993, 58 FR 10630).

Reason: Records are covered by M01070-6, Marine Corps Official Military Personnel Files. All files have been scanned and relocated into the new system.

Therefore, MMN00035, Truth Teller/Static Listings can be deleted.

MMN00041, Non-Appropriated Fund (NAF) Employee File (February 22, 1993, 58 FR 10630).

Reason: Records are covered by two existing systems; DPR 34 DOD, Defense Civilian Personnel Data System, and NM07010-1, DON Non-Appropriated Funds Standard payroll System. All records that have met their retention have been deleted. All others have been incorporated into the new system.

Therefore, MMN00041, Non-Appropriated Fund (NAF) Employee File can be deleted.

MMN00043, Marine Corps Recreation Property Records and Facilities (February 22, 1993, 58 FR 10630).

Reason: Records are covered by NM01700-1, DON General Morale, Welfare, and Recreation Records. All records that have met their retention have been deleted. All others have been incorporated into the new system.

Therefore, MMN00043, Marine Corps Recreation Property Records and Facilities can be deleted.

MMN00048, Performance Evaluation Review Board (February 22, 1993, 58 FR 10630).

Reason: Records are covered by NM01000-1 Board for Correction of Naval Records Tracking System (BCNRTS) and Case Files. All records that have met their retention have been deleted. All others have been incorporated into the new system.

Therefore, MMN00048, Performance Evaluation Review Board can be deleted.

MMN00049, Manpower Management Information System (February 22, 1993, 58 FR 10630).

Reason: Records are covered by two existing systems; M0140-3 Marine Corps Manpower Management Information System Records and M06320-1 Marine Corps Total Information Management Records. All records that have met their retention have been deleted. All others have been incorporated into the new system.

Therefore, MMN00049, Manpower Management Information System can be deleted.

MMN00051, Individual Recruiter Training Record (February 22, 1993, 58 FR 10630)

Reason: Records are covered by M01133-3, Marine Corps Recruiting Information Support System. All records that have met their retention have been deleted. All others have been incorporated into the new system.

Therefore, MMN00051, Individual Recruiter Training Record can be deleted.

MMT00002, Marine Corps Institute Correspondence Training Records System (February 22, 1993, 58 FR 10630).

Reason: Records are covered by two existing systems; NM01560-2 Department of Defense Voluntary Education System, and NM01500-2 Department of the Navy Education and Training Records. All records that have met their retention have been deleted. All others have been incorporated into the new system.

Therefore, MMT00002, Marine Corps Institute Correspondence Training Records System can be deleted.

MRS00003, Marine Corps Reserve HIV Program (February 22, 1993, 58 FR 10630).

Reason: Records are covered by N016150-2 Health Care Record System. All records that have met their retention have been deleted. All others have been incorporated into the new system.

Therefore, MRS00003, Marine Corps Reserve HIV Program can be deleted.

[FR Doc. 2013-05040 Filed 3-4-13; 8:45 am]

BILLING CODE 5001-06-P